DEPARTMENT OF AGRICULTURE

Forest Service

Revision of the Land and Resource Management Plan for the Colville, Okanogan and Wenatchee National Forests, Pacific Northwest Region, WA

AGENCY: Forest Service, USDA.

ACTION: Notice of intent to revise the Land and Resource Management Plans (Forest Plans) for the Colville, Okanogan and Wenatchee National Forests.

SUMMARY: This notice announces the intent of the Colville, Okanogan and Wenatchee National Forests to revise their respective Land and Resource Management Plans (Forest Plans) under the 1982 planning regulations (36 CFR part 219). Initial steps of the revision process will focus on information needs, resource inventory review, organizing data, and establishing the public involvement process.

ADDRESSES: Send written comments concerning this notice to Margaret Hartzell, Plan Revision Group Leader, Okanogan Valley Office, 1240 South Second Avenue, Okanogan, WA 98840. Send electronic correspondence on the Forest Plan Revision to r6_ewzplanrevision@fs.fed.us.

FOR FURTHER INFORMATION CONTACT: Margaret Hartzell, Plan Revision Group Leader (509) 826-3275.

SUPPLEMENTARY INFORMATION: The Forest Plans for the Colville, Okanogan and Wenatchee National Forests will remain in effect and continue to be implemented until the Forest Plans are revised. This notice addresses initiation of plan revision. Once the scope of the revision is better understood the Forests will issue a Notice to prepare an Environmental Impact Statement, which will initiate the National Environmental Policy Act stage of plan revision.

The Forest Service is preparing new planning regulations which may be issued while the Colville, Okanogan and Wenatchee Forest Plans are still in the revision process. These new regulations will reflect the latest national direction on land management planning and the Forests may consider completing the Plan Revision under the new, finalized planning regulations. It is anticipated the new planning regulations will allow such a change. An additional Notice will be issued if the Forests decide to switch to the new, final planning regulations.

Further information is available on the Colville, Okanogan and Wenatchee Forest Plans Revision Web site http://www.fs.fed.us/r6/colville/cow.

Dated: February 13, 2004.
Linda Goodman,
Regional Forester.

[FR Doc. 04-5230 Filed 3-8-04; 8:45 am]

BILLING CODE 3410-11-M